DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement in scope of the parent award for the one eligible grant recipient funded in FY 2023 under the Historically Black Colleges and Universities Center for Excellence (HBCU-CFE) grant, Notice of Funding Opportunity (NOFO) (TI-23-015). The recipient may receive up to $350,000 total funding. This recipient has a project end date of September 29, 2026. The supplement expands SAMHSA's engagement with Historically Black Colleges and Universities (HBCUs) by supporting a series of strategic initiatives that promote behavioral health career exploration and student wellness. These efforts are aligned with Executive Order 14283, The White House Initiative to Promote Excellence and Innovation at Historically Black Colleges and Universities and focus on building active public-private sector and philanthropic partnerships to advance shared goals related to student success and retention and creating professional development opportunities for HBCU students to help build America's workforce in behavioral health. The initiative will include the formation of a planning committee and a national convening of HBCU educators and behavioral health professionals to co-develop a shared vision and strategy. A key deliverable will be the creation of a behavioral health career exploration curriculum tailored to high school, community college, and early college students, with plans for national dissemination through local educational agencies. To further support student wellness and crisis prevention, the program will co-develop peer-led, campus-based interventions focused on suicide and crisis prevention and launch a culturally responsive 988 education and public awareness campaign tailored to HBCU communities. Together, these efforts will strengthen behavioral health workforce pathways, foster innovation, and align with Executive Order 14283 by advancing excellence and opportunity across HBCUs.

FOR FURTHER INFORMATION CONTACT:

Mohammad Sharara, Substance Abuse and Mental Health Services Administration, Center for Substance Abuse Treatment, 5600 Fishers Lane, Rockville, MD 20857, telephone 771-241-8157, email Mohammad.Sharara@samhsa.hhs.gov.

Jill Mays, Substance Abuse and Mental Health Services Administration, 988 and Behavioral Health Crisis Coordinating Office, 5600 Fishers Lane, Rockville, MD 20857, telephone 202-407-2169, email Jill.Mays@samhsa.hhs.gov.

SUPPLEMENTARY INFORMATION:

Funding Opportunity Title: FY 2023 Historically Black Colleges and Universities Center for Excellence (HBCU-CFE) grant TI-23-015.

Assistance Listing Number: 93.243.

Authority: The HBCU-CFE award is authorized under the Public Health Service Act, Section 509; 42 U.S.C 290bb-2 and Section 520A; 42 U.S.C 290bb-32.

Justification: SAMHSA is proposing a single source supplemental award to Clark University, the current grantee operating the Historically Black Colleges and Universities (HBCU) Center for Excellence (CFE), to support expanded activities aligned with Executive Order 14283. Clark University has demonstrated a strong track record of success in leading the HBCU CFE, including activities such as: bi-monthly educational webinars for future leaders in healthcare, the 988 Call for the Culture Suicide Prevention Initiative, and the Pre-Career Footsteps Mentoring Corp Leaders Program. These activities all support outreach, training, and retention with the purpose of preparing HBCU students to enter the behavioral health workforce.

As the established infrastructure for SAMHSA's engagement with HBCUs, the HBCU CFE at Clark University is uniquely positioned to rapidly scale and implement the proposed activities without duplication of effort or delay. The grantee has existing relationships with HBCU leadership, behavioral health faculty, and student networks, as well as the administrative capacity to manage the proposed planning convenings, curriculum development, and interagency coordination. In addition, Clark Atlanta University has continuously built on a strong foundation of bonds with other HBCUs across the nation that can be utilized when coordinating curriculum development. Awarding this supplement to the current grantee ensures continuity, leverages existing investments, and maximizes the impact of the $350,000 in funding to advance behavioral health outcomes and workforce development across HBCUs.

This is not a formal request for application. Assistance will only be provided to one HBCU CFE grant recipient funded in FY 2023 under the Historically Black Colleges and Universities Center for Excellence (HBCU-CFE) grant TI-23-015 based on the receipt of a satisfactory application and associated budget that is approved by a review group.

Dated: September 15, 2025.
Ann Ferrero,
Public Health Analyst.

[FR Doc. 2025-18033 Filed 9-17-25; 8:45 am]

BILLING CODE 4162-20-P